ENVIRONMENTAL PROTECTION AGENCY

40 CFR Part 261

Identification and Listing of Hazardous Waste

CFR Correction

In Title 40 of the Code of Federal Regulations, Parts 260 to 265, revised as of July 1, 2017, on page 67, in part 261, the heading of subpart C is reinstated to read: “Characteristics of Hazardous Waste”.

[FR Doc. 2018-02513 Filed 2-6-18; 8:45 am]

BILLING CODE 1301-00-D